DEPARTMENT OF HOMELAND SECURITY

Coast Guard

[USCG-2005-20457]

Collection of Information under Review by Office of Management and Budget (OMB): 1625-0013, 1625-0032, 1625-0037, 1625-0041, and 1625-0042.

AGENCY: Coast Guard, DHS.

ACTION: Request for comments.

SUMMARY: In compliance with the Paperwork Reduction Act of 1995, this request for comments announces that the Coast Guard has forwarded five Information Collection Reports (ICRs)—(1) 1625-0013, Plan Approval and Records for Load Lines; (2) 1625-0032, Vessel Inspection Related Forms and Reporting Requirements Under Title 46 U.S. Code; (3) 1625-0037, Certificates of Compliance, Boiler/Pressure Vessel Repairs, Cargo Gear Records, and Shipping Papers; (4) 1625-0041, Various International Agreement Pollution Prevention Certificates and Documents, and Equivalency Certificates, and (5) 1625-0042, Requirements for Lightering of Oil and Hazardous Material Cargoes—abstracted below, to the Office of Information and Regulatory Affairs (OIRA) of the Office of Management and Budget (OMB) for review and comment. Our ICR describes the information we seek to collect from the public. Review and comment by OIRA ensures that we impose only paperwork burdens commensurate with our performance of duties.

DATES: Please submit comments on or before June 27, 2005.

ADDRESSES: To make sure that your comments and related material do not reach the docket [USCG-2005-20457] or OIRA more than once, please submit them by only one of the following means:

(1) (a) By mail to the Docket Management Facility, U.S. Department of Transportation (DOT), room PL-401, 400 Seventh Street SW., Washington, DC 20590-0001. (b) By mail to OIRA, 725 17th St NW., Washington, DC 20503, to the attention of the Desk Officer for the Coast Guard.

(2) (a) By delivery to room PL-401 at the address given in paragraph (1)(a) above, between 9 a.m. and 5 p.m., Monday through Friday, except Federal holidays. The telephone number is (202) 366-9329. (b) By delivery to OIRA, at the address given in paragraph (1)(b) above, to the attention of the Desk Officer for the Coast Guard.

(3) By fax to (a) the Facility at (202) 493-2298 and (b) OIRA at (202) 395-6566, or e-mail to OIRA at oira-docket@omb.eop.gov attention: Desk Officer for the Coast Guard.

(4) (a) Electronically through the Web site for the Docket Management System at http://dms.dot.gov. (b) OIRA does not have a Web site on which you can post your comments.

The Docket Management Facility maintains the public docket for this notice. Comments and material received from the public, as well as documents mentioned in this notice as being available in the docket, will become part of this docket and will be available for inspection or copying at room PL-401 on the Plaza level of the Nassif Building, 400 Seventh Street SW., Washington, DC, between 9 a.m. and 5 p.m., Monday through Friday, except Federal holidays. You may also find this docket on the Internet at http://dms.dot.gov.

Copies of the complete ICRs are available through this docket on the Internet at http://dms.dot.gov, and also from Commandant (CG-611), U.S. Coast Guard Headquarters, room 6106 (Attn: Ms. Barbara Davis), 2100 Second Street SW., Washington, DC 20593-0001. The telephone number is (202) 267-2326.

FOR FURTHER INFORMATION CONTACT: Ms. Barbara Davis, Office of Information Management, telephone (202) 267-2326 or fax (202) 267-4814, for questions on these documents; or Ms. Andrea M. Jenkins, Program Manager, Docket Operations, (202) 366-0271, for questions on the docket.

SUPPLEMENTARY INFORMATION: The Coast Guard invites comments on the proposed collections of information to determine whether the collections are necessary for the proper performance of the functions of the Department. In particular, the Coast Guard would appreciate comments addressing: (1) The practical utility of the collections; (2) the accuracy of the estimated burden of the collections; (3) ways to enhance the quality, utility, and clarity of the information that is the subject of the collections; and (4) ways to minimize the burden of collections on respondents, including the use of automated collection techniques or other forms of information technology.

Comments to DMS or OIRA must contain the OMB Control Number of the Information Collection Reports (ICRs) addressed. Comments to DMS must contain the docket number of this request, [USCG 2005-20457]. For your comments to OIRA to be considered, it is best if OIRA receives them on or before the June 27, 2005.

Public participation and request for comments: We encourage you to respond to this request for comments by submitting comments and related materials. We will post all comments received, without change, to http://dms.dot.gov, and they will include any personal information you have provided. We have an agreement with DOT to use their Docket Management Facility. Please see the paragraph on DOT's “Privacy Act Policy” below.

Submitting comments: If you submit a comment, please include your name and address, identify the docket number for this request for comment [USCG-2005-20457], indicate the specific section of this document or the ICR to which each comment applies, and give the reason for each comment. You may submit your comments and material by electronic means, mail, fax, or delivery to the Docket Management Facility at the address under ADDRESSES, but please submit them by only one means. If you submit them by mail or delivery, submit them in an unbound format, no larger than 8½ by 11 inches, suitable for copying and electronic filing. If you submit them by mail and would like to know that they reached the Facility, please enclose a stamped, self-addressed postcard or envelope.

The Coast Guard and OIRA will consider all comments and material received during the comment period. We may change the documents supporting this collection of information or even the underlying requirements in view of them.

Viewing comments and documents: To view comments, as well as documents mentioned in this notice as being available in the docket, go to http://dms.dot.gov at any time and conduct a simple search using the docket number. You may also visit the Docket Management Facility in room PL-401 on the Plaza level of the Nassif Building, 400 Seventh Street, SW., Washington, DC, between 9 a.m. and 5 p.m., Monday through Friday, except Federal holidays.

Privacy Act: Anyone can search the electronic form of all comments received in dockets by the name of the individual submitting the comment (or signing the comment, if submitted on behalf of an association, business, labor union, etc.). You may review the Privacy Act Statement of DOT in the Federal Register published on April 11, 2000 (65 FR 19477), or you may visit http://dms.dot.gov.

Previous Request for Comments

This request provides a 30-day comment period required by OIRA. The Coast Guard has already published the 60-day notice required by 44 U.S.C. 3506(c)(2) (70 FR 11018, March 7, 2005). That notice elicited no comments.

Information Collection Request

1. Title: Plan Approval and Records for Load Lines.

OMB Control Number: 1625-0013.

Type of Request: Extension.

Affected Public: Owners and operators of vessels.

Forms: 88 USA LL, A21 HSSC LL-EXEMPT, LL 14-A, LL 18-E, LL 40-A, LL 19, LL 13-C, LL 18-F.

Abstract: This information collection is required to ensure that certain vessels are not loaded deeper than appropriate for safety. Vessels over 150 gross tons or 79 feet in length engaged in commerce on international or coastwise voyages by sea are required to obtain a Load Line Certificate. This collection also incorporates the Great Lakes load lines rule.

Burden Estimates: The estimated burden has decreased from 1,979 hours to 1,681 hours a year.

2. Title: Vessel Inspection Related Forms and Reporting Requirements Under Title 46 U.S. Code.

OMB Control Number: 1625-0032.

Type of Request: Extension.

Affected Public: Owners, operators, agents and masters of vessels.

Forms: CG-841, CG-854, CG-948, CG-949, CG-950, CG-950A and CG-2832.

Abstract: This collection of information requires owners, operators, agents or masters of certain inspected vessels to obtain and/or post various forms as part of the Coast Guard's Commercial Vessel Safety Program.

Burden Estimates: The estimated burden has decreased from 1,578 hours to 1,471 hours a year.

3. Title: Certificates of Compliance, Boiler/Pressure Vessel Repairs, Cargo Gear Records, and Shipping Papers.

OMB Control Number: 1625-0037.

Type of Request: Extension.

Affected Public: Owners and operators of vessels.

Forms: CG-3585.

Abstract: This information is needed to enable the Coast Guard to fulfill its responsibilities for maritime safety under Title 46, U.S. Code. It is solely for this purpose. The affected public includes some owners or operators of large merchant vessels and all foreign-flag tankers calling at U.S. ports.

Burden Estimates: The estimated burden has decreased from 17,555 hours to 13,577 hours a year.

4. Title: Various International Agreement Pollution Prevention Certificates and Documents, and Equivalency Certificates.

OMB Control Number: 1625-0041.

Type of Request: Revision.

Affected Public: Owners and operators of vessels.

Forms: CG-5352, CG-5352A, CG-5352B, CG-6047, CG-6056, CG-6056A and CG-6057.

Abstract: Required by the adoption of the International Convention for the Prevention of Pollution from Ships (MARPOL 73/78), these certificates and documents are evidence of compliance with this convention for U.S. vessels on international voyages. Without the proper certificates or documents, a U.S. vessel could be detained in a foreign port.

Burden Estimates: The estimated burden has increased from 6,780 hours to 6,874 hours a year.

5. Title: Requirements for Lightering of Oil and Hazardous Material Cargoes.

OMB Control Number: 1625-0042.

Type of Request: Extension.

Affected Public: Owners and operators of vessels.

Forms: None.

Abstract: The information for this report allows the U.S. Coast Guard to provide a timely response to an emergency and minimize the environmental damage from an oil or hazardous material spill. The information also allows the Coast Guard to control the location and procedures for lightering activities.

Burden Estimates: The estimated burden has increased from 228 hours to 324 hours a year.

Dated: May 19, 2005.
Dr. Nathaniel S. Heiner,
Acting, Assistant Commandant for Command, Control, Communications, Computers and Information Technology.

[FR Doc. 05-10590 Filed 5-26-05; 8:45 am]

BILLING CODE 4910-15-P